DEPARTMENT OF THE INTERIOR

National Park Service

[NPS-WASO-NAGPRA-NPS0030387; PPWOCRADN0-PCU00RP14.R50000]

Notice of Inventory Completion: U.S. Department of the Interior, Bureau of Reclamation, Interior Region 10, California-Great Basin, Sacramento, CA

AGENCY: National Park Service, Interior.

ACTION: Notice.

SUMMARY: The U.S. Department of the Interior, Bureau of Reclamation, Interior Region 10, California-Great Basin (Reclamation Region 10), has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to Reclamation Region 10. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Reclamation Region 10 at the address in this notice by August 5, 2020.

ADDRESSES: Melanie Ryan, NAGPRA Specialist/Physical Anthropologist, Bureau of Reclamation, Interior Region 10, California-Great Basin, MP-153, 2800 Cottage Way, Sacramento, CA 95825, telephone (916) 978-5526, email emryan@usbr.gov.

SUPPLEMENTARY INFORMATION: Notice is here given in accordance with the Native American Graves Protection and Repatriation Act (NAGPRA), 25 U.S.C. 3003, of the completion of an inventory of human remains and associated funerary objects under the control of the U.S. Department of the Interior, Bureau of Reclamation, Interior Region 10, California-Great Basin, Sacramento, CA. The human remains and associated funerary objects were removed from lands in Ventura County, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains and associated funerary objects was made by Reclamation Region 10 professional staff in consultation with representatives of the Santa Ynez Band of Chumash Mission Indians of the Santa Ynez Reservation, California.

History and Description of the Remains

In 1958 and 1959, the human remains of, at minimum, 15 individuals were removed from two sites in Ventura County, CA, owned by the Bureau of Reclamation—Las Casitas I (CA-VEN-48) and Las Casitas III (CA-VEN-115). The human remains were removed during excavations carried out by the University of Southern California under the direction of William Wallace ahead of Reclamation's Ventura River Project and construction of the Casitas Dam, Dike, and Reservoir.

In 1964, the collections from Las Casitas I and III were transferred from the University of Southern California to the University of California, Los Angeles (UCLA), where they remain in the custody of UCLA's Fowler Museum. In 2017, Reclamation Region 10 discovered that the collections from Las Casita I and III are under Reclamation's control and contain human remains and associated funerary objects.

The human remains from Las Casitas I (CA-VEN-48; UCLA Number 446) represent nine individuals—eight formal burials and 48 pieces of disarticulated, fragmentary remains. Evidence of rodent activity on the human remains might account for the disparate proveniences of the 48 bone fragments. Among the human remains are two older adult females; one young adult male; two adult males; one older adult male; and two adults of indeterminate sex. No known individuals were identified. The 95 associated funerary objects are 56 shell beads, 13 pieces of animal bone, 10 sandstone manos, three pieces of worked bone, four pieces of worked ochre, two pieces of chert debitage, one bone scraper, one chert scraper, one chert core, one chert projectile point, one quartzite core/hammerstone, one sandstone ground stone ball, and one stone fragment. (According to the Fowler Museum's records, there were originally 97 associated funerary objects, but one worked bone and one drilled cowrie shell were lost in a fire in 1970.)

The human remains from Las Casitas III (CA-VEN-115; UCLA Number 448) represent six individuals—five formal burials and 15 teeth recovered from a midden context. No known individuals were identified. The two associated funerary objects are shell beads. (According to the Fowler Museum's records, as of May 28, 1976, one chert scraper was apparently lost while on loan.)

The amount of wear on the dentition and the associated artifacts indicate that the human remains are Native American. In consultation with the Santa Ynez Band of Chumash Mission Indians, of the Santa Ynez Reservation, California, Reclamation Region 10 determined that the land from which these human remains and associated funerary objects were removed is within traditional territory of the Chumash, and that the associated funerary objects are consistent with those groups who are ancestral to present day Chumash.

Determinations made by the U.S. Department of the Interior, Bureau of Reclamation, Interior Region 10, California-Great Basin Office

Officials of the U.S. Department of the Interior, Bureau of Reclamation, Interior Region 10, California-Great Basin Office have determined that:

• Pursuant to 25 U.S.C. 3001(9), the human remains described in this notice represent the physical remains of 15 individuals of Native American ancestry.

• Pursuant to 25 U.S.C. 3001(3)(A), the 97 objects described in this notice are reasonably believed to have been placed with or near individual human remains at the time of death or later as part of the death rite or ceremony.

• Pursuant to 25 U.S.C. 3001(2), there is a relationship of shared group identity that can be reasonably traced between the Native American human remains and associated funerary objects and the Santa Ynez Band of Chumash Mission Indians of the Santa Ynez Reservation, California.

Additional Requestors and Disposition

Lineal descendants or representatives of any Indian Tribe or Native Hawaiian organization not identified in this notice that wish to request transfer of control of these human remains and associated funerary objects should submit a written request with information in support of the request to Melanie Ryan, NAGPRA Specialist/Physical Anthropologist, Bureau of Reclamation, Interior Region 10, California-Great Basin, MP-153, 2800 Cottage Way, Sacramento, CA 95825, telephone (916) 978-5526, email emryan@usbr.gov, by August 5, 2020. After that date, if no additional requestors have come forward, transfer of control of the human remains and associated funerary objects to the Santa Ynez Band of Chumash Mission Indians of the Santa Ynez Reservation, California may proceed.

The U.S. Department of the Interior, Bureau of Reclamation, Interior Region 10, California-Great Basin Office is responsible for notifying the Santa Ynez Band of Chumash Mission Indians of the Santa Ynez Reservation, California that this notice has been published.

Dated: May 27, 2020.
Melanie O'Brien,
Manager, National NAGPRA Program.

[FR Doc. 2020-14398 Filed 7-2-20; 8:45 am]

BILLING CODE 4312-52-P